DEPARTMENT OF ENERGY

Agency Information Collection Extension

AGENCY: Bonneville Power Administration (BPA), U.S. Department of Energy.

ACTION: Submission for Office of Management and Budget (OMB) review; comment request.

SUMMARY: The Department of Energy (DOE) has submitted an information collection request to the OMB for extension under the provisions of the Paperwork Reduction Act of 1995. The information collection requests a three-year extension of its collection, titled Aircraft Services, OMB Control Number 1910-5196. The collection is associated with BPA's management and oversight of personnel flying on BPA planes and helicopters. Gathering this information is necessary to ensure that BPA is complying with FAA requirements and document authorization for contractor travel on BPA aircraft.

DATES: Comments regarding this collection must be received on or before January 21, 2026. If you anticipate that you will be submitting comments but find it difficult to do so within the period allowed by this notice, please advise the OMB Desk Officer of your intention to make a submission as soon as possible. The Desk Officer may be telephoned at 202-881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to Attn: Stephanie Noell, Privacy Program, by email at privacy@bpa.gov, or by phone at (503) 230-3881.

SUPPLEMENTARY INFORMATION: This information collection request contains: (1) OMB No.: 1910-5196; (2) Information Collection Request Title: Aircraft Services; (3) Type of Request: Extension; (4) Purpose: This information collection is associated with BPA's management and oversight of personnel flying on BPA planes and helicopter. Employees, non-employees, contractors, and the general public complete the following form: BPA F 4450.01e Flight Request and contractors complete the following form: BPA F 4450.04e Contract Worker—Authorization for Travel on BPA Aircraft; (5) Annual Estimated Number of Respondents: 1,000; (6) Annual Estimated Number of Total Responses: 1,000; (7) Annual Estimated Number of Burden Hours: 100; (8) Annual Estimated Reporting and Recordkeeping Cost Burden: $5,328.60.

Statutory Authority: FAA-H-80831B—Aircraft Weight & Balance Regulation Handbook, 14 CFR 102-33.165, 16 U.S.C. 832 et seq., 16 U.S.C. 838 et seq., 16 U.S.C. 839 et seq., 42 U.S.C. 7101, 41 CFR 300-304, and DOE M 552.1-1A.

Signing Authority: This document of the Department of Energy was signed on November 13, 2025, by Candice D. Palen, Information Collection Clearance Manager, Bonneville Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 18, 2025.
Jennifer Hartzell,
Alternate Federal Register Liaison Officer, U.S. Department of Energy.

[FR Doc. 2025-23618 Filed 12-19-25; 8:45 am]

BILLING CODE 6450-01-P